COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds service(s) to the Procurement List that will be furnished by nonprofit agencies employing persons who are blind or have other severe disabilities, and deletes products(s) from the Procurement List previously furnished by such agencies.

DATES: Date added to and deleted from the Procurement List: February 1, 2021.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 10/9/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Custodial and Related Services

Mandatory for: GSA PBS Region 4, Josiah House Courthouse, Charleston, SC

Designated Source of Supply: Palmetto Goodwill Services, North Charleston, SC

Contracting Activity: Public Buildings Service, PBS R4 Tennessee/Kentucky Contracts

The Committee finds good cause to dispense with the 30-day delay in the effective date normally required by the Administrative Procedure Act. See 5 U.S.C. 553(d). This addition to the Committee's Procurement List is effectuated because of the expiration of the General Services Administration/Public Building Service (GSA/PBS) contract. The Federal customer contacted, and has worked diligently with the AbilityOne Program to fulfill this service need under the AbilityOne Program. To avoid performance disruption, and the possibility that the GSA/PBS will refer its business elsewhere, this addition must be effective on February 1, 2021, ensuring timely execution for a February 1, 2021, start date while still allowing 17 days for comment. Pursuant to its own regulation 41 CFR 51-2.4, the Committee determined that no severe adverse impact exists. The Committee also published a notice of proposed Procurement List addition in the Federal Register on October 9, 2020, and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Deletions

On 12/4/2020 and 12/11/2020, the Committee for Purchase From People Who Are Blind or Severely Disabled published notice of proposed deletions from the Procurement List. This notice is published pursuant to 41 U.S.C. 8503(a)(2) and 41 CFR 51-2.3.

After consideration of the relevant matter presented, the Committee has determined that the service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following product(s) are deleted from the Procurement List:

Product(s)

NSN(s)—Product Name(s):

5340-00-479-2949—Strap, Webbing, 57″ × 1″

5340-00-543-3271—Strap, Webbing, 9-3/4″ × 1″

5340-00-753-3740—Strap, Webbing, 8″ × 1″

Designated Source of Supply: The Charles Lea Center, Inc., Spartanburg, SC

Contracting Activity: DLA Troop Support, Philadelphia, PA

NSN(s)—Product Name(s):

MR 13120—Set, Container, Pop, 5pc

MR 13130—Set, Bowl, Colander, Large, 3 pc

MR 13131—Container, Rectangle, Pop, 1.5 Qt

MR 13132—Container, Square, Pop, Small, 0.9 Qt.

MR 13133—Container, Rectangle, Pop, 2.5 Qt.

MR 13134—Container, Square, Pop, Small, 0.3 Qt.

Designated Source of Supply: Cincinnati Association for the Blind, Cincinnati, OH

Contracting Activity: Military Resale-Defense Commissary Agency

NSN(s)—Product Name(s):

9905-00-NIB-0001—Link, Hasp and Strap Assembly

9905-00-NIB-0014—Link, Hasp and Strap Assembly

Designated Source of Supply: Mississippi Industries for the Blind, Jackson, MS

Contracting Activity: U.S. Postal Service, Washington, DC, Washington, DC

Michael R. Jurkowski,
Deputy Director, Business & PL Operations.

[FR Doc. 2021-00901 Filed 1-14-21; 8:45 am]

BILLING CODE 6353-01-P